OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: David Guilford, Center for Leadership and Executive Resources Policy, Division for Strategic Human Resources Policy, 202-606-1391.

SUPPLEMENTARY INFORMATION: Appearing in the listing below are the individual authorities established under Schedules A, B, and C between June 1, 2006, and June 30, 2006. Future notices will be published on the fourth Tuesday of each month, or as soon as possible thereafter. A consolidated listing of all authorities as of June 30 is published each year.

Schedule A

No Schedule A appointments were approved for June 2006.

Schedule B

No Schedule B appointments were approved for June 2006.

Schedule C

The following Schedule C appointments were approved during June 2006:

Section 213.3303 Executive Office of the President Council on Environmental Quality

EQGS60019 Associate Director for Agriculture, Lands and Wildlife to the Chairman (Council on Environmental Quality). Effective June 30, 2006.

Office of Management and Budget

BOGS60157 Confidential Assistant to the Administrator, E-Government and Information Technology. Effective June 16, 2006.

BOGS60011 Deputy General Counsel to the General Counsel. Effective June 19, 2006.

BOGS60155 Special Assistant to the Director, Office of Management and Budget. Effective June 19, 2006.

Office of National Drug Control Policy

QQGS60091 Legislative Analyst to the Associate Director, Office of Legislative Affairs. Effective June 01, 2006.

Office of Science and Technology Policy

TSGS60030 Confidential Assistant to the Chief of Staff and General Counsel. Effective June 09, 2006.

Section 213.3304 Department of State

DSGS61092 Special Assistant to the Under Secretary for Public Diplomacy and Public Affairs. Effective June 06, 2006.

DSGS61096 Senior Advisor to the Director, Policy Planning Staff. Effective June 09, 2006.

DSGS61095 Special Assistant to the Deputy Assistant Secretary. Effective June 13, 2006.

DSGS61089 Supervisory Protocol Officer (Visits) to the Chief of Protocol. Effective June 15, 2006.

DSGS61088 Special Assistant to the Chief Financial Officer. Effective June 16, 2006.

DSGS61094 Special Assistant to the Under Secretary for Public Diplomacy and Public Affairs. Effective June 16, 2006.

DSGS60817 Legislative Management Officer to the Assistant Secretary for Legislative and Intergovernmental Affairs. Effective June 19, 2006.

DSGS61093 Public Affairs Officer to the Chief of Protocol. Effective June 26, 2006.

DSGS61098 Legislative Analyst to the Assistant Secretary for Legislative and Intergovernmental Affairs. Effective June 30, 2006.

DSGS61100 Staff Assistant to the Ambassador-At-Large (War Crimes). Effective June 30, 2006.

Section 213.3305 Department of the Treasury

DYGS00442 Special Assistant to the Deputy Assistant Secretary (Public Liaison, Strategic Planning and Business Development). Effective June 30, 2006.

DYGS00472 Special Assistant to the Under Secretary for International Affairs. Effective June 30, 2006.

Section 213.3306 Office of the Secretary of Defense

DDGS16954 Special Assistant to the Principal Deputy Assistant Secretary of Defense (Legal Affairs). Effective June 02, 2006.

DDGS16946 Staff Assistant to the Assistant Secretary of Defense (Health Affairs). Effective June 09, 2006.

DDGS16950 Confidential Assistant to the Deputy Under Secretary of Defense (Acquisition and Technology). Effective June 13, 2006.

DDGS16952 Special Administrative Assistant to the Under Secretary of Defense (Acquisition, Technology, and Logistics). Effective June 23, 2006.

Section 213.3310 Department of Justice

DJGS00126 Deputy Chief of Staff and Counsel to the Assistant Attorney General. Effective June 02, 2006.

DJGS00155 Speechwriter to the Director, Office of Public Affairs. Effective June 09, 2006.

DJGS00369 Deputy White House Liaison to the White House Liaison and Counsel to the Attorney General. Effective June 19, 2006.

DJGS00147 Confidential Assistant to the Assistant Attorney General, Environment and Natural Resources. Effective June 26, 2006.

DJGS00124 Senior Counsel to the Director, Office of Public Affairs. Effective June 28, 2006.

DJGS00226 Senior Advisor to the Director of the Bureau of Justice Assistance. Effective June 28, 2006.

DJGS00279 Deputy Director to the Director, Office of Intergovernmental and Public Liaison. Effective June 28, 2006.

Section 213.3311 Department of Homeland Security

DMGS00518 Special Assistant to the Assistant Secretary for Information Analysis. Effective June 01, 2006.

DMGS00531 Counselor to the General Counsel. Effective June 06, 2006.

DMGS00535 Director of Communications for Preparedness to the Under Secretary for Preparedness. Effective June 09, 2006.

DMGS00536 Director of Communications to the Deputy Director, Federal Emergency Management Agency. Effective June 09, 2006.

DMGS00534 Associate Director of Strategic Communications for Policy to the Director of Strategic Communications. Effective June 13, 2006.

DMGS00533 Advisor for Human Capital to the Under Secretary for Management. Effective June 16, 2006.

DMGS00537 Deputy Assistant Secretary for Policy Development to the Assistant Secretary for Policy. Effective June 21, 2006.

DMGS00515 Assistant Director of Legislative Affairs for Miscellaneous Offices to the Assistant Secretary for Legislative Affairs. Effective June 26, 2006.

DMGS00532 Advisor to the Director for Policy to the Director, Domestic Nuclear Detection Office. Effective June 28, 2006.

DMGS00541 Director/Executive Secretariat, Private Sector Advisory Committee to the Executive Director, Homeland Security Advisory Committees. Effective June 30, 2006.

DMGS00542 Advisor for Intelligence to the Assistant Secretary, Immigration and Customs Enforcement. Effective June 30, 2006.

Section 213.3312 Department of the Interior

DIGS01071 Special Assistant to the Solicitor. Effective June 16, 2006.

DIGS01072 Special Assistant—Scheduling and Advance to the Director—Scheduling and Advance. Effective June 30, 2006.

Section 213.3313 Department of Agriculture

DAGS00849 Confidential Assistant to the Administrator, Foreign Agricultural Service. Effective June 21, 2006.

DAGS00850 Special Assistant to the Under Secretary for Rural Development. Effective June 21, 2006.

DAGS00851 Special Assistant to the Under Secretary for Research, Education and Economics. Effective June 21, 2006.

DAGS00854 Staff Assistant to the Assistant Secretary for Congressional Relations. Effective June 28, 2006.

DAGS00853 Director, Native American Programs to the Assistant Secretary for Congressional Relations. Effective June 30, 2006.

Section 213.3314 Department of Commerce

DCGS00385 Senior Advisor to the Director. Effective June 09, 2006.

DCGS00492 Confidential Assistant to the Director of Advance. Effective June 09, 2006.

DCGS60205 Policy Advisor to the Chief of Staff. Effective June 09, 2006.

DCGS60272 Confidential Assistant to the Assistant Secretary for Market Access and Compliance. Effective June 09, 2006.

DCGS60380 Confidential Assistant to the Chief of Staff to the Under Secretary, International Trade Administration. Effective June 09, 2006.

DCGS00288 Confidential Assistant to the Director, Office of Business Liaison. Effective June 21, 2006.

DCGS00640 Speechwriter to the Director of Public Affairs. Effective June 21, 2006.

Section 213.3315 Department of Labor

DLGS60174 Special Assistant to the Director of Operations. Effective June 13, 2006.

DLGS60041 Staff Assistant to the Chief of Staff. Effective June 26, 2006.

DLGS60144 Staff Assistant to the White House Liaison. Effective June 28, 2006.

DLGS60077 Staff Assistant to the Assistant Secretary for Congressional and Intergovernmental Affairs. Effective June 30, 2006.

Section 213.3316 Department of Health and Human Services

DHGS60057 Special Assistant to the Director, Office of Refugee Resettlement. Effective June 09, 2006.

DHGS60058 Confidential Assistant to the Director, Congressional Liaison Office. Effective June 16, 2006.

DHGS60059 Deputy Director for Regional Outreach and Operations to the Director of Intergovernmental Affairs. Effective June 21, 2006.

DHGS60127 Confidential Assistant to the Administrator, Centers for Medicare and Medicaid Services. Effective June 30, 2006.

DHGS60418 Confidential Assistant to the Deputy Assistant Secretary for Public Affairs (Policy and Strategy) to the Assistant Secretary for Public Affairs. Effective June 30, 2006.

DHGS60570 Confidential Assistant (Advance) to the Deputy Director for Advance. Effective June 30, 2006.

Section 213.3317 Department of Education

DBGS00516 Special Assistant to the Assistant Secretary for Civil Rights. Effective June 02, 2006.

DBGS00537 Special Assistant to the Chief of Staff. Effective June 02, 2006.

DBGS00538 Confidential Assistant to the Chief of Staff. Effective June 19, 2006.

DBGS00540 Confidential Assistant to the Director, Scheduling and Advance Staff. Effective June 26, 2006.

DBGS00541 Special Assistant to the Assistant Deputy Secretary for Safe and Drug-Free Schools. Effective June 26, 2006.

DBGS00542 Special Assistant to the Executive Assistant. Effective June 26, 2006.

DBGS00535 Senior Advisor to the Secretary to the Chief of Staff. Effective June 30, 2006.

DBGS00539 Special Assistant to the Senior Counselor to the Secretary. Effective June 30, 2006.

DBGS00543 Confidential Assistant to the Assistant Secretary for Legislation and Congressional Affairs. Effective June 30, 2006.

DBGS00544 Confidential Assistant to the Assistant Secretary, Office of Communications and Outreach. Effective June 30, 2006.

DBGS00545 Director, Regional Services to the Assistant Secretary, Office of Communications and Outreach. Effective June 30, 2006.

DBGS00548 Special Assistant to the Deputy Assistant Secretary for Media Relations and Strategic Communications. Effective June 30, 2006.

Section 213.3318 Environmental Protection Agency

EPGS06018 Program Manager (Operations) to the Administrator. Effective June 16, 2006.

EPGS03200 Director of Scheduling to the Deputy Chief of Staff (Operations). Effective June 21, 2006.

EPGS06012 Director of Advance to the Deputy Chief of Staff (Operations). Effective June 26, 2006.

EPGS06013 Strategic Scheduler to the Deputy Chief of Staff (Operations). Effective June 26, 2006.

EPGS06014 Audio Visual Producer to the Deputy Chief of Staff (Operations). Effective June 26, 2006.

EPGS06015 Staff Secretary to the Chief of Staff. Effective June 26, 2006.

EPGS06016 Advance Specialist to the Deputy Chief of Staff (Operations). Effective June 26, 2006.

Section 213.3323 Overseas Private Investment Corporation

PQGS06015 Special Assistant to the Vice President, Investment Funds. Effective June 26, 2006.

Section 213.3325 United States Tax Court

JCGS60072 Trial Clerk to the Chief Judge. Effective June 15, 2006.

Section 213.3327 Department of Veterans Affairs

DVGS60050 Special Assistant to the Assistant Secretary for Public and Intergovernmental Affairs. Effective June 13, 2006.

Section 213.3331 Department of Energy

DEGS00524 Assistant Press Secretary to the Director, Public Affairs. Effective June 02, 2006.

DEGS00523 Trip Coordinator to the Director, Office of Scheduling and Advance. Effective June 21, 2006.

DEGS00525 Deputy White House Liaison to the White House Liaison. Effective June 21, 2006.

DEGS00526 Trip Coordinator to the Director, Office of Scheduling and Advance. Effective June 27, 2006.

DEGS00527 Staff Assistant to the Director, Office of Scheduling and Advance. Effective June 27, 2006.

Section 213.3332 Small Business Administration

SBGS60169 Regional Administrator, Region I, Boston, Massachusetts to the Associate Administrator for Field Operations. Effective June 09, 2006.

Section 213.3337 General Services Administration

GSGS60095 White House Liaison to the Chief of Staff. Effective June 26, 2006.

GSGS00179 Small Business Specialist to the Associate Administrator for Small Business Utilization. Effective June 30, 2006.

Section 213.3356 Commission on Civil Rights

CCGS00017 Special Assistant to a Commissioner. Effective June 26, 2006.

Section 213.3384 Department of Housing and Urban Development

DUGS60187 Staff Assistant to the Assistant Secretary for Public Affairs. Effective June 16, 2006.

Section 213.3394 Department of Transportation

DTGS60054 Associate Director for Governmental Affairs to the Deputy Assistant Secretary for Governmental Affairs. Effective June 16, 2006

DTGS60337 Executive Director for Public Affairs to the Administrator. Effective June 21, 2006.

DTGS60381 Chief of Staff to the Administrator. Effective June 27, 2006.

Authority: 5 U.S.C. 3301 and 3302; E.O. 10577, 3 CFR 1954-1958 Comp., p. 218.

Office of Personnel Management.
Dan G. Blair,
Deputy Director.

[FR Doc. E6-12785 Filed 8-4-06; 8:45 am]

BILLING CODE 6325-39-P